SMALL BUSINESS ADMINISTRATION

[Disaster Declaration #11645 and #11646]

Arkansas Disaster Number AR-00028

AGENCY: U.S. Small Business Administration.

ACTION: Amendment 3.

SUMMARY: This is an amendment of the Presidential declaration of a major disaster for Public Assistance Only for the State of Arkansas (FEMA-1819-DR), dated 02/06/2009.

Incident: Severe Winter Storm.

Incident Period: 01/26/2009 through 01/30/2009.

Effective Date: 02/24/2009.

Physical Loan Application Deadline Date: 04/07/2009.

Economic Injury (EIDL) Loan Application Deadline Date: 11/06/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for private non-profit organizations in the State of Arkansas, dated 02/06/2009, is hereby amended to include the following areas as adversely affected by the disaster.

Primary Counties: Pope.

All other information in the original declaration remains unchanged.

(Catalog of Federal Domestic Assistance Numbers 59002 and 59008)

Herbert L. Mitchell,
Associate Administrator for Disaster Assistance.

[FR Doc. E9-6058 Filed 3-19-09; 8:45 am]

BILLING CODE 8025-01-P